DEPARTMENT OF THE INTERIOR

Bureau of Indian Affairs

[212A2100DD/AAKC001030// A0A501010.999900; OMB Control Number 1076-0172]

Agency Information Collection Activities; Class III Tribal-State Gaming Compact Process

AGENCY: Bureau of Indian Affairs, Interior.

ACTION: Notice of information collection; request for comment.

SUMMARY: In accordance with the Paperwork Reduction Act of 1995, we, the Office of the Assistant Secretary—Indian Affairs, are proposing to renew an information collection.

DATES: Interested persons are invited to submit comments on or before May 25, 2021.

ADDRESSES: Send written comments on this information collection request (ICR) to Ms. Paula Hart, U.S. Department of the Interior, Office of Indian Gaming, 1849 C Street NW, Mail Stop 3543, Washington, DC 20240; email: Paula.Hart@BIA.gov. Please reference OMB Control Number 1076-0172 in the subject line of your comments.

FOR FURTHER INFORMATION CONTACT: To request additional information about this ICR, contact Ms. Paula Hart, telephone: (202) 219-4066. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Office of the Assistant Secretary—Indian Affairs is seeking renewal of the approval for the information collection conducted under 25 CFR 293, Class III Tribal-State Gaming Compact Process and the Indian Gaming Regulatory Act (IGRA), 25 U.S.C. 2710(d)(8)(A), (B) and (C), which authorizes the Secretary to approve, disapprove or “consider approved” (i.e., deemed approved) a Tribal-state gaming compact or compact amendment and publish notice of that approval or considered approval in the Federal Register. The information collected includes Tribal-state compacts or compact amendments entered into by Indian Tribes and State governments. The Secretary of the Interior reviews this information and may approve, disapprove or consider the compact approved.

Title of Collection: Class III Tribal-State Gaming Compact Process.

OMB Control Number: 1076-0172.

Form Number: None.

Type of Review: Extension without change of currently approved collection.

Respondents/Affected Public: Indian Tribes and State governments.

Total Estimated Number of Annual Respondents: 40 per year.

Total Estimated Number of Annual Responses: 40 per year.

Estimated Completion Time per Response: 200 hours.

Total Estimated Number of Annual Burden Hours: 8,000 hours.

Respondent's Obligation: Required to obtain a benefit.

Frequency of Collection: One time.

Total Estimated Annual Nonhour Burden Cost: $0.

An agency may not conduct or sponsor and a person is not required to respond to a collection of information unless it displays a currently valid OMB control number.

The authority for this action is the Paperwork Reduction Act of 1995 (44 U.S.C. 3501 et seq.).

Elizabeth K. Appel,
Director, Office of Regulatory Affairs and Collaborative Action—Indian Affairs.

[FR Doc. 2021-06403 Filed 3-25-21; 8:45 am]

BILLING CODE 4337-15-P